DEPARTMENT OF COMMERCE

Foreign-Trade Zones Board

[B-64-2022]

Foreign-Trade Zone (FTZ) 75; Authorization of Production Activity; TSMC Arizona Corporation; (Semiconductor Wafers); Phoenix, Arizona

On December 13, 2022, TSMC Arizona Corporation submitted a notification of proposed production activity to the FTZ Board for its facility within Subzone 75O, in Phoenix, Arizona.

The notification was processed in accordance with the regulations of the FTZ Board (15 CFR part 400), including notice in the Federal Register inviting public comment (87 FR 79856, December 28, 2022). On April 12, 2023, the applicant was notified of the FTZ Board's decision that no further review of the activity is warranted at this time. The production activity described in the notification was authorized, subject to the FTZ Act and the FTZ Board's regulations, including section 400.14.

Dated: April 12, 2023.
Camille R. Evans,
Acting Executive Secretary.

[FR Doc. 2023-08065 Filed 4-14-23; 8:45 am]

BILLING CODE 3510-DS-P